ENVIRONMENTAL PROTECTION AGENCY

[EPA-HQ-OPP-2007-0837;FRL-8377-3]

Malathion; Order Amending Registration to Terminate Certain Uses

AGENCY: Environmental Protection Agency (EPA).

ACTION: Notice.

SUMMARY: EPA is granting a registrant's voluntary request for amendments to terminate certain uses of products containing the pesticide malathion, pursuant to section 6(f)(1) of the Federal Insecticide, Fungicide, and Rodenticide Act (FIFRA). This order follows a March 18, 1991 Federal Register Notice of Receipt of Requests to amend the registration of Fyfanon Technical, EPA Reg. No. 4787-5, to terminate certain uses. The requested amendments would not terminate all uses of malathion products registered for use in the United States. In the March 18, 1991 notice, EPA indicated that it intended to approve the requested amendments to terminate uses. Today's order does not terminate all of the uses identified in the March 18, 1991 notice, because Cheminova A/S and the Interregional Research Project No. 4 (IR-4) adequately supported certain uses. Accordingly, EPA hereby grants, in part, the requested registration amendments and orders the termination of the uses identified in Unit II. Any distribution, sale, or use of Fyfanon Technical, EPA Reg. No. 4787-5, is permitted only in accordance with the terms of this order, including any existing stocks provisions.

DATES: The uses of Fyfanon Technical, EPA Reg. No. 4787-5, described in Unit II of this cancellation order are cancelled effective August 27, 2008.

FOR FURTHER INFORMATION CONTACT: Eric Miederhoff, Special Review and Reregistration Division (7508P), Office of Pesticide Programs, Environmental Protection Agency, 1200 Pennsylvania Ave., NW., Washington, DC 20460-0001; telephone number: (703) 347-8028; fax number: (703) 308-7070; e-mail address: miederhoff.eric@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2007-0837. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the Federal Register listings at http://www.epa.gov/fedrgstr.

II. What Action is the Agency Taking?

EPA is ordering the cancellation of certain uses of Fyfanon Technical, EPA Reg. No. 4787-5, pursuant to the registrant's voluntary request for cancellation. The registrant of Fyfanon Technical is Cheminova A/S., 1600 Wilson Blvd., Suite 700 Arlington, VA 22209.

Uses of Fyfanon Technical Terminated by this Order

1. Food crops: Almond (preharvest and postharvest), lentils, cranberry, filbert, cowpea forage and hay, pea vine and hay, soybean, safflower, peanuts (preharvest and postharvest), beet (sugar), sunflower (postharvest), rice (postharvest treatment), greenhouse food uses, and plum, prune.

2. Non food uses: Tobacco, forest trees.

3. Other uses: Field and garden seeds; grapes (post harvest use on raisin drying trays); bagged citrus pulp; cattle feed concentrate blocks (non-medicated); direct animal and livestock treatments including pet and domestic animal uses for beef cattle, cats, chickens, dairy cattle (lactating and nonlactating), dogs, ducks, geese, goats, hogs, horses (including ponies), pigeons, sheep and turkeys; animal premise uses for dairy and livestock barns, stables and pens, feed rooms, poultry houses, manure piles, kennels, rabbits on wire, beef cattle feed lots and holding pens, cat and dog sleeping quarters; poultry houses, human clothing (woolens and other fabrics); mattresses; and commercial and industrial uses for bagged flour; cereal processing plants, dry milk processing plants, eating establishments, food processing plants, packaged cereals, pet foods and feed stuff.

III. Summary of Public Comments Received and Agency Response to Comments

On March 18, 1991, EPA published in the Federal Register a notice of receipt of voluntary requests for termination of uses from all registrants of technical malathion, specifically American Cyanamid Company and Cheminova A/S (56 FR 11420); (FRL-3874-4). American Cyanamid Company subsequently cancelled all uses of its malathion products, and is therefore not addressed in this order.

Following the March 18, 1991 notice, Cheminova provided data to support a number of the food uses that it had previously asked to terminate. These uses are wild rice, barley, oat, rye, kumquat, lemon, lime, tangerine, endive, squash, gooseberries, currant, eggplant, garlic, shallot, lespedeza hay, vetch hay, and leeks. Additionally, stored commodity treatments for barley and corn received subsequent support. Cheminova has either submitted, or has committed to submit, data sufficient to support the reregistration of these uses. The Interregional Research Project No. 4 (IR-4) also submitted data sufficient to support reregistration of the use of malathion on cauliflower, kale, dandelion, parsley, boysenberry, dewberry, loganberry, kohlrabi, spinach, pumpkins, melons, watercress, walnuts, pineapple, papaya, passion fruit, peaches, apricots, nectarines, macadamia, blackberry, raspberries, broccoli, Brussels sprouts, cabbage, collards, carrots, okra, guava, hops, fig, chestnut, chayote, turnip, pea, mustard green, beets (garden), horseradish, parsnip, rutabaga, radish, salsify, sweet potato, mint, and asparagus. Although, IR-4 also endeavored to support the use of malathion on flax, apples, quince, celery, and swiss chard, the data submitted did not prove wholly adequate to support reregistration of these uses. As these uses were supported during the development of the malathion Reregistration Eligibility Decision (RED), EPA will accept the submission of data specified in the RED as necessary to maintain the registration of these uses.

The malathion uses identified in Unit II above remain unsupported. Cheminova did not withdraw its voluntary request for termination of these uses, and no other party has committed to produce data sufficient to support these uses. Cheminova did not commit to support the reregistration of these uses and did not submit supporting data as required in phases 2 and 3 of reregistration (FIFRA section 4(d) and (e)), and so, these uses were not fully evaluated in the malathion Reregistration Eligibility Decision. Accordingly, EPA hereby grants, in part, the requested registration amendments and orders the termination of the malathion uses identified in Unit II above.

IV. Cancellation Order

Pursuant to FIFRA section 6(f), EPA hereby approves the requested amendments to terminate those uses of malathion identified in Unit II above. Accordingly, the Agency orders that the registration of Fyfanon Technical, EPA Reg. No. 4787-5, is hereby amended to terminate the uses identified in Unit II above. Any distribution, sale, or use of existing stocks of Fyfanon Technical, EPA Reg. No. 4787-5, in a manner inconsistent with any of the Provisions for Disposition of Existing Stocks set forth in Unit VI below. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this notice includes the following existing stocks provisions.

1. The registrant may continue to sell and distribute existing stocks of Fyfanon Technical, EPA Reg. No. 4787-5, with previously approved labeling that includes uses terminated by this cancellation order, until February 27, 2009.

2. Persons other than the registrant may continue to sell and/or distribute existing stocks of Fyfanon Technical, EPA Reg. No. 4787-5, with previously approved labeling that includes the terminated uses until such stocks are exhausted.

3. Persons other than the registrant may continue to use existing stocks of Fyfanon Technical, EPA Reg. No. 4787-5, with previously approved labeling that includes the terminated uses, provided that they are not used to formulate products labeled for any use described in Unit II. of this cancellation order, until such stocks are exhausted.

List of Subjects

Environmental protection, Pesticides and pests.

Dated: August 13, 2008.
Steven Bradbury,
Director, Special Review and Reregistration Division, Office of Pesticide Programs.

[FR Doc. E8-19762 Filed 8-26-08; 8:45 a.m.]

Billing Code 6560-50-S